DEPARTMENT OF TRANSPORTATION

Federal Aviation Administration

14 CFR Part 39

[Docket No. FAA-2014-0132; Directorate Identifier 2012-NM-007-AD]

RIN 2120-AA64

Airworthiness Directives; Airbus Airplanes

AGENCY: Federal Aviation Administration (FAA), DOT.

ACTION: Proposed rule; correction.

SUMMARY: The FAA is correcting a Notice of Proposed Rulemaking (NPRM) that published in the Federal Register. The NPRM applies to certain Airbus Model A330-200 and -300 series airplanes, and Model A340-200 and -300 series airplanes. The docket number identified throughout the NPRM is incorrect. This document corrects that error. In all other respects, the original document remains the same.

DATES: The last date for submitting comments to the NPRM (79 FR 7098, February 6, 2014) remains March 24, 2014.

ADDRESSES: You may examine the AD docket on the Internet at http://www.regulations.gov by searching for and locating Docket No. FAA-2014-0132; or in person at the Docket Management Facility between 9 a.m. and 5 p.m., Monday through Friday, except Federal holidays. The AD docket contains this AD action, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION: On January 29, 2014, the FAA issued a Notice of Proposed Rulemaking (NPRM) (79 FR 7098, February 6, 2014) for certain Airbus Model A330-200 and -300 series airplanes, and Model A340-200 and -300 series airplanes. The NPRM, Directorate Identifier 2012-NM-007-AD, currently proposes to require repetitive draining of any fluid from the retraction actuator piston rod internal volume and sealing of the vent hole; repetitive ultrasonic inspections of the upper end of the piston rods, and corrective actions if necessary; a one-time ultrasonic inspection (longitudinal and circumferential) of the full-length of the piston rod, and corrective actions if necessary; and a terminating modification of the left-hand and right-hand main landing gear (MLG) retraction actuators.

As published, the NPRM (79 FR 7098, February 6, 2014) specifies an incorrect docket number throughout the preamble and regulatory text. We have been informed that a duplicate docket number was inadvertently assigned to us for the NPRM. The correct docket number is FAA-2014-0132.

Commenters who submitted comments to the original (incorrect) docket number should check Docket No. FAA-2014-0012 and Docket No. FAA-2014-0132 on http://www.regulations.gov to determine whether their comments have been received and filed in the appropriate docket. If not, or if it is not possible to determine whether comments have been posted to the correct docket, the comments should be resubmitted using the correct docket number.

No other part of the preamble or regulatory information has been changed; therefore, only the changed portion of the NPRM (79 FR 7098, February 6, 2014) is being published in the Federal Register.

The last date for submitting comments to the NPRM (79 FR 7098, February 6, 2014) remains March 24, 2014.

Correction of Non-Regulatory Text

In the Federal Register of February 6, 2014, Directorate Identifier 2012-NM-007-AD is corrected as follows:

On page 7098, in the first column, on line four of the headings section, correct “Docket No. FAA-2014-0012” to read “Docket No. FAA-2014-0132.”

On page 7098, in the second column, on line four under “Examining the AD Docket,” correct “Docket No. FAA-2014-0012” to read “Docket No. FAA-2014-0132.”

On page 7098, in the third column, on line five under “SUPPLEMENTARY INFORMATION: Comments Invited,” correct “Docket No. FAA-2014-0012” to read “Docket No. FAA-2014-0132.”

On page 7099, in the second column, on line fifteen, correct “Docket No. FAA-2014-0012” to read “Docket No. FAA-2014-0132.”

Correction of Regulatory Text

§ 39.13 [Corrected]

1. On page 7100, in the second column, amendatory instruction 2. and the heading of Docket No. FAA-2014-0132 are corrected to read as follows:

2. The FAA amends § 39.13 by removing airworthiness directive (AD) 2004-16-01, Amendment 39-13757 (69 FR 46979, August 4, 2004), and adding the following new AD:

Airbus: Docket No. FAA-2014-0132; Directorate Identifier 2012-NM-007-AD.

* * * * *

2. On page 7103, in the second column, paragraph (y)(1) of NPRM Docket No. FAA-2014-0132 is corrected to read as follows:

* * * * *

(1) Refer to Mandatory Continuing Airworthiness Information (MCAI) European Aviation Safety Agency Airworthiness Directive 2011-0178R1, dated March 6, 2012 (corrected March 7, 2012); and 2011-0179R1, dated March 6, 2012; for related information. These MCAIs may be found in the AD docket on the Internet at http://www.regulations.gov by searching for and locating Docket No. FAA-2014-0132.

* * * * *

Issued in Renton, Washington, on March 13, 2014.
Jeffrey E. Duven,
Manager, Transport Airplane Directorate, Aircraft Certification Service.

[FR Doc. 2014-06007 Filed 3-19-14; 8:45 am]

BILLING CODE 4910-13-P